SMALL BUSINESS ADMINISTRATION

[Disaster Declaration #10650]

Alaska Disaster #AK-00008

AGENCY: Small Business Administration.

ACTION: Notice.

SUMMARY: This is a notice of the Presidential declaration of a major disaster for Public Assistance Only for the State of Alaska (FEMA-1663-DR), dated 10/16/2006.

Incident: Severe Storms, Flooding, Landslides, and Mudslides.

Incident Period: 08/15/2006 through 08/25/2006.

Effective Date: 10/16/2006.

Physical Loan Application Deadline Date: 12/15/2006.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 10/16/2006, Private Non-Profit organizations that provide essential services of a governmental nature may file disaster loan applications at the address listed above or other locally announced locations.

The following areas have been determined to be adversely affected by the disaster:

Primary Counties: Chugach Reaa (10), Denali Borough, Matanuska-Susitna Borough.

The Interest Rates are:

| Percent
Other (Including Non-Profit Organizations) With Credit Available Elsewhere | 5.000
Businesses and Non-Profit Organizations Without Credit Available Elsewhere | 4.000

The number assigned to this disaster for physical damage is 10650.

(Catalog of Federal Domestic Assistance Number 59008)

Herbert L. Mitchell,
Associate Administrator for Disaster Assistance.

[FR Doc. E6-17769 Filed 10-23-06; 8:45 am]

BILLING CODE 8025-01-P